SECURITIES AND EXCHANGE COMMISSION

Submission for OMB Review; Comment Request

Upon written request, copies available from: Securities and Exchange Commission, Office of Filings and Information Services, Washington, DC 20549.

Extension: Form U-1—SEC File No. 270-128, OMB Control No. 3235-0125.

Notice is hereby given that pursuant to the Paperwork Reduction Act of 1995 (44 U.S.C. 3501 et seq.) the Securities and Exchange Commission (“Commission”) has submitted to the Office of Management and Budget a request for extension of the previously approved collection of information discussed below.

Under rule 20(c) of the Act, Form U-1 must be used by any person filing or amending an application or declaration under sections 6(b), 7, 9(c)(3), 10, 12(b), (c), (d), or (f) of the Act. The form must also be used for filings under any rule under other sections of the Act or which a form is not prescribed. The 111 annual responses together incur about 24,753 burden hours to comply with these requirements.

The estimate of average burden hours is made solely for the purposes of the even a representative survey or study of the costs of Commission rules and forms.

The Commission needs this information to determine if the registered holding companies and their subsidiaries (and, in certain instances, exempt holding companies) are in compliance with the Public Utility Holding Company Act of 1935. There is no requirement to keep the information confidential because it is public information. An agency may not conduct or sponsor, and a person is not required to respond to, a collection of information unless it displays a currently valid control number.

Please direct general comments regarding the above information should be directed to the following persons: (i) Desk Officer for the Securities and Exchange Commission, Office of Information and Regulatory Affairs, Office of Management and Budget, Room 10102, New Executive Office Building, Washington, DC 20503 or send an email to: David_Rostker@omb.eop.gov; and (ii) R. Corey Booth, Director/Chief Information Officer, Office of Information Technology, Securities and Exchange Commission, 450 5th Street, NW, Washington, DC 20549. Comments must be submitted to OMB within 30 days of this notice.

Dated: March 16, 2004.
J. Lynn Taylor,
Assistant Secretary.

[FR Doc. 04-6589 Filed 3-23-04; 8:45 am]

BILLING CODE 8010-01-P